DEPARTMENT OF THE INTERIOR

Bureau of Land Management

[LLNMA02000-L13400000]

Notice of Intent/Notice of Realty Action: Proposed Resource Management Plan Amendment and Non-Competitive Direct Sale for the Expansion of the San Jose Cemetery, Luis Lopez, Socorro County, NM

AGENCY: Bureau of Land Management, Interior.

ACTION: Notice of Intent; Notice of Realty Action.

SUMMARY: The Bureau of Land Management (BLM) is offering to sell a parcel of public land containing 2.72 acres through a non-competitive (direct) sale for the expansion of an existing cemetery at not less than the appraised fair market value of $7,400 to the Roman Catholic Church of the Archdiocese of Santa Fe San Miguel Parish. The sale is subject to the applicable provisions of Sections 203 and 209 of the Federal Land Policy and Management Act of 1976 (FLPMA), as amended, and the BLM land sale and mineral conveyance regulations. In accordance to Section 203 of FLPMA disposal criteria for sales, a resource management plan (RMP) amendment is required establishing the disposal criteria using the Section 202 FLPMA planning process.

DATES: Interested parties may submit written comments regarding the resource management plan amendment and classification of the land for direct sale, and the environmental assessment, on or before January 10, 2020. Before including your address, phone number, email address, or other personal identifying information in your comment, you should be aware that your entire comment including your personal identifying information may be made publicly available at any time. While you can ask us in your comment to withhold your personal identifying information from public review, we cannot guarantee that we will be able to do so. Only written comments to the Field Manager, BLM Socorro Field Office, will be considered properly filed. Any adverse comments regarding the RMP amendment and non-competitive direct sale will be reviewed by the BLM New Mexico State Director or other authorized official of the Department of the Interior, who may sustain, vacate, or modify this realty action in whole or in part.

ADDRESSES: Send written comments to the BLM Field Manager, Socorro Field Office, 901 S. Hwy 85, Socorro, New Mexico 87801.

FOR FURTHER INFORMATION CONTACT: BLM Realty Specialist Virginia Alguire at (575) 838-1290 or valguire@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM will conduct a direct sale for the following public land located in the unincorporated community of Luis Lopez in Socorro County, New Mexico. Luis Lopez lies between Socorro and San Antonio along the Rio Grande. The parcel of public land is legally described as: New Mexico Principal Meridian, New Mexico: T. 4 S., R. 1 W., Section 1, Lot 11.

The area described contains 2.72 acres, in Socorro County, New Mexico. Upon publication of the Notice, these public lands will be segregated from all forms of appropriation under the public land laws, including the mining laws, except for the sale provisions of FLPMA. Upon publication of this Notice, and until completion of the sale, the BLM will no longer accept land use applications affecting these public lands. The segregated effect will terminate upon issuance of a patent, publication in the Federal Register of a termination of the segregation, or on November 26, 2021, unless extended by the BLM New Mexico State Director in accordance with 43 CFR 2711.1-2(d) prior to the termination date.

An Environmental Assessment will evaluate criteria under FLPMA, Section 203(a)(3) and 43 CFR 2710.0-3(a)(2), that the disposal of such tract will serve important public objectives, including but not limited to, expansion of communities and economic development, which cannot be achieved prudently or feasibly on lands other than public lands and which outweigh other public objectives and values. Such tract, because of its location or other characteristics, is difficult and uneconomic to manage as part of the public lands, and is not suitable for management by another Federal department or agency. Consistent with Section 203 of FLPMA, a tract of public land may be sold as a result of approved land use planning if the sale of the tract meets the disposal criteria of that section. The public land in question has been identified as suitable for disposal in the BLM Socorro Resource Management Plan (RMP), Appendix F, pages 120 through 125, dated August 20, 2010. However, an RMP amendment is required to establish the criteria to meet the FLPMA Section 203 regulation through planning. The underlying decision will amend the BLM Socorro RMP establishing the FLPMA Section 203 sale criteria for the parcel using the FLPMA Section 202 planning process as follows: “Such tract because of its location or other characteristics is difficult and uneconomic to manage as part of the public lands, and is not suitable for management by another Federal department or agency.”

“Disposal of such tract will serve important public objectives, including but not limited to expansion of communities and economic development, which cannot be achieved prudently or feasibly on land other than public land and which outweighs other public objectives and values, including but not limited to recreation and scenic values, which would be served by maintaining such tract in Federal ownership.”

The parcel is not required for any other Federal purpose. Regulations contained in 43 CFR 2711.3-3(a)(1) make allowances for direct sales when a competitive sale is not appropriate and the public interest would be best served by a direct sale. The parcel would be transferred to the Archdiocese of Santa Fe and, given its location, will be used for the expansion of the existing cemetery. This action is consistent with 43 CFR part 2710, the objectives, goals, and decisions of the RMP such as the lands and realty objective to make lands available for community expansion and private economic development and to increase the potential for economic diversity. The BLM has prepared an environmental assessment (EA) DOI-BLM-NM-A020-2019-0045-RMP-EA for the RMP amendment and non-competitive direct sale, and will make it available for comment. The comment period on the EA will end concurrently with the close of the comment period associated with this Notice of Realty Action. The EA, environmental site assessment, mineral potential report, map, and approved appraisal report will be made available for review at the Socorro Field Office at the address in the ADDRESSES section and online at the BLM ePlanning website at: https://go.usa.gov/xVYN8. The BLM proposes a non-competitive direct sale because it serves an important local public objective of facilitating the expansion of the existing cemetery. The public land will not be offered for sale prior to 60 days from the date of publication of this notice in the Federal Register. The patent, if issued, would be subject to the following terms, conditions, and reservations:

1. A reservation for any right-of-way thereon for ditches or canals constructed by the authority of the United States, Act of August 30, 1890 (43 U.S.C. 945).

2. The parcel is subject to all valid existing rights.

3. The purchaser, by accepting the patent, agrees to an indemnification clause protecting the United States from claims arising out of the patentee's use, occupancy, or occupations on the patented lands.

Pursuant to the requirements established by Section 120(h) of the Comprehensive Environmental Response, Compensation and Liability Act, 42 U.S.C. 9620(h) (CERCLA), as amended by the Superfund Amendments and Reauthorization Act of 1988 (100 Stat. 1670), notice is hereby given that the above lands have been examined and no evidence was found to indicate that any hazardous substances have been stored for one year or more, nor had any hazardous substances been disposed of or released on the subject property. To the extent required by law, all parcels are subject to the requirements of Section 120(h) of CERCLA.

No representation, warranty, or covenant of any kind, express or implied, will be given or made by the United States, its officers, or employees as to access to or from the above-described parcel of land, the title to the land, whether or to what extent the land may be developed, its physical condition, or its past, present or potential uses, and the conveyance of any such parcel will not be on a contingency basis. It is the responsibility of the buyer to be aware of all applicable Federal, State, and local government policies and regulations that would affect the subject lands. It is also the buyer's responsibility to be aware of existing or prospective uses of nearby properties. Lands without access from a public road or highway will be conveyed as such, and future access acquisition will be the responsibility of the buyer.

The BLM prepared a mineral potential report dated April 10, 2012, which concluded that all mineral rights should be transferred. The purchaser will have 30 days from the date of receiving the sale offer to accept the offer and to submit a deposit of 20 percent of the purchase price. The purchaser must remit the remainder of the purchase price within 180 days from the date of the sale offer. Payments must be by certified check, U.S. postal money order, bank draft, or cashier's check, and made payable to the U.S. Department of the Interior-BLM. The purchaser may also conduct an Electronic Funds Transfer (EFT). The balance is due 2 weeks prior to the 180th day if the purchaser conducts an EFT. Failure to meet conditions established for this sale will void the sale and forfeit any payment(s) received.

Authority: 43 CFR 2711.1-2(a) and (c).

Timothy R. Spisak,
State Director.

[FR Doc. 2019-25649 Filed 11-25-19; 8:45 am]

BILLING CODE 4310-FB-P